DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps (NHSC).

Dates and Times: January 19, 2012: 8:30 a.m.-4:30 p.m. January 20, 2012: 8 a.m.-12 p.m.

Place: Hilton Washington DC/Rockville Hotel & Executive Meeting Center, 1750 Rockville Pike, Rockville, MD 20852, Phone: (301) 468-1100.

Status: The meeting will be open to the public.

Agenda: The Council is convening in Rockville, Maryland, to hear updates from the Health Resources and Services Administration and the NHSC program, as well as to discuss evidence-based strategies for clinician retention, negotiated rule-making, and the current state of primary care workforce programs. A portion of the meeting will be open for public comments and questions.

FOR FURTHER INFORMATION CONTACT: Njeri Jones, Bureau of Clinician Recruitment and Service, Health Resources and Services Administration, Parklawn Building, Room 13-64, 5600 Fishers Lane, Rockville, MD 20857; email: NJones@hrsa.gov; telephone: (301) 443-2541.

Dated: December 20, 2011.
Reva Harris,
Acting Director, Division of Policy and nformation Coordination.

[FR Doc. 2011-33294 Filed 12-27-11; 8:45 am]

BILLING CODE 4165-15-P